DEPARTMENT OF ENERGY

Federal Energy Regulatory Commission

[Project No. 13124-005]

Copper Valley Electric Association, Inc.; Notice of Availability of Environmental Assessment

In accordance with the National Environmental Policy Act of 1969 and the Federal Energy Regulatory Commission's (Commission or FERC's) regulations, 18 Code of Federal Regulations (CFR) Part 380 (Order No. 486, 52 Federal Register 47897), the Office of Energy Projects has reviewed Copper Valley Electric Association, Inc.'s application to amend its license for the Allison Creek Hydroelectric Project (FERC Project No. 13124). The 6.5-megawatt project is located on Allison Creek near Valdez, Alaska. The project does not occupy any federal lands.

As licensed, the majority of the project's 7,000-foot-long penstock would be installed above-ground and a 4,000-foot-long temporary construction access road would be used during construction. In its amendment application, the licensee proposes to bury the entire penstock instead, including the drilling and blasting of a 700-foot-long, 16-foot-diameter tunnel through which a segment of the penstock would be routed. In addition, the licensee proposes changes to the construction access roads. Staff prepared an environmental assessment (EA) which analyzes the potential environmental effects of the proposed amendment, and concludes that amending the license, with appropriate environmental protective measures, would not constitute a major federal action that would significantly affect the quality of the human environment.

A copy of the EA may be viewed on the Commission's Web site at http://www.ferc.gov/docs-filing/elibrary.asp. Enter the docket number (P-13124) in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the Commission's Public Reference Room located at 888 First Street NE., Room 2A, Washington, DC 20426, or by calling (202) 502-8371.

Dated: November 20, 2013.
Kimberly D. Bose,
Secretary.

[FR Doc. 2013-28547 Filed 11-27-13; 8:45 am]

BILLING CODE 6717-01-P